Title 3—

The President

Proclamation 9882 of May 10, 2019

National Charter Schools Week, 2019

By the President of the United States of America

A Proclamation

During National Charter Schools Week, we recognize the important contributions public charter schools make by providing American families with the freedom to choose high-quality education options that meet their children's needs. For more than a quarter century, charter schools—tuition-free public schools of choice—have been incubators of educational innovations, while being accountable for student achievement and outcomes. Today, what began as a grassroots movement now flourishes in 44 States, the District of Columbia, Guam, and Puerto Rico, with more than 7,000 schools serving approximately 3.2 million students.

Charter schools empower families to pursue the right educational fit for their children, helping ensure that there are paths to the American Dream that match the needs of students striving to achieve it. The unique needs of students, rather than address or family income, should determine where they learn. My Administration is committed to reducing the outsized Federal footprint in education and to empowering families, as well as State and local policymakers and educators, with the flexibility to adapt to student needs.

Public charter schools work for students, teachers, and communities. The Center for Research on Education Outcomes found that charter schools better serve low-income students, minority students, and students learning English than neighboring public schools. The success of our Nation's public charter schools in helping students of all backgrounds thrive and in addressing the needs of local education confirms what Americans have always known: those who are closest to students know best how to prepare them to reach their full potential.

Nothing better proves the value of and need for charter schools than the ever-growing demand from students and families. Although charter school enrollment has increased at least sevenfold in the past 18 years, more than one million students remain on charter school waiting lists today. A recent survey found that 59 percent of parents would prefer to send their child to a different type of school than the one to which they have been assigned.

Because of the success of and demand for public charter schools, each year since taking office, I have proposed to increase and improve funding for them as a key part of my Administration's ambitious efforts to expand every family's access to all types of high-quality education opportunities. In my fiscal year 2020 budget request, I called on the Congress to increase funding for the Federal Charter Schools Program to $500 million, an increase of $60 million over the current level.

No matter where they live or how much their parents earn, all children deserve access to education that enriches their minds. This week, we celebrate all the students, families, teachers, administrators, and community leaders who support public charter schools and education freedom. We reaffirm our commitment to expanding every family's access to high-quality education opportunities and to supporting educational excellence and innovation for the benefit of every student and for the continued prosperity of our great Nation.

NOW, THEREFORE, I, DONALD J. TRUMP, President of the United States of America, by virtue of the authority vested in me by the Constitution and the laws of the United States, do hereby proclaim May 12 through May 18, 2019, as National Charter Schools Week. I commend our Nation's successful public charter schools, teachers, and administrators, and I call on States and communities to help students and empower parents and families by supporting high-quality charter schools as an important school choice option.

IN WITNESS WHEREOF, I have hereunto set my hand this tenth day of May, in the year of our Lord two thousand nineteen, and of the Independence of the United States of America the two hundred and forty-third.

[FR Doc. 2019-10255

Filed 5-14-19; 11:15 am]

Billing code 3295-F9-P